SMALL BUSINESS ADMINISTRATION

[License No. 03/03-0283]

Conflicts of Interest Exemption; Boathouse Capital III, L.P.

Notice is hereby given that Boathouse Capital III, L.P., 353 W Lancaster Avenue, Suite 200, Wayne, PA 19087, a Federal Licensee under the Small Business Investment Act of 1958, as amended (“the Act”), in connection with the financing of a small business concern, has sought an exemption under Section 312 of the Act and Section 107.730, Financings which Constitute Conflicts of Interest of the Small Business Administration (“SBA”) Rules and Regulations (13 CFR 107.730). Boathouse Capital III, L.P. is seeking a written exemption from SBA for a proposed financing to Splashlight Holding, LLC, 75 Varick Street, 3rd Floor, New York, NY 10013.

The financing is brought within the purview of § 107.730(a) of the Regulations because Splashlight Holding, LLC. is an Associate of Boathouse Capital III, L.P. because Associate Boathouse Capital II, L.P. owns a greater than ten percent interest in Splashlight Holding, LLC, therefore this transaction is considered Financing which constitute conflicts of interest requiring SBA's prior written exemption.

Notice is hereby given that any interested person may submit written comments on this transaction within fifteen days of the date of this publication to the Associate Administrator, Office of Investment and Innovation, U.S. Small Business Administration, 409 Third Street SW, Washington, DC 20416.

United States Small Business Administration.
Bailey G. DeVries,
Associate Administrator, Office of Investment and Innovation.

[FR Doc. 2021-25696 Filed 11-23-21; 8:45 am]

BILLING CODE P